DEPARTMENT OF THE TREASURY

Submission for OMB Review; Comment Request

May 11, 2005.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000,1750 Pennsylvania Avenue, NW., Washington, DC 20220.

DATES: Written comments should be received on or before June 17, 2005 to be assured of consideration.

Financial Management Service (FMS)

OMB Number: 1510-0052.

Form Numbers: FMS 458 and FMS 459.

Type of Review: Extension.

Title: Financial Institution Agreement and Application Forms for Designation as a Treasury Tax and Loan Depositary.

Description: Financial institutions are required to complete an agreement and application to participate in the Federal Tax Deposit/Treasury and Loan Program. The approved application designates the depositary as an authorized recipient of taxpayers' deposits for Federal taxes.

Respondents: Business or other for-profit.

Estimated Number of Respondents: 450.

Estimated Burden Hours per Respondent: 30 minutes.

Frequency of Response: Other (once for duration of the authorization).

Estimated Total Reporting Burden: 225 hours.

Clearance Officer: Jiovannah L. Diggs, Financial Management Service, Administrative Programs Division, Records and Information Management Program, 3700 East West Highway, Room 144, Hyattsville, MD 20782, (202) 874-7662.

OMB Reviewer: Alexander T. Hunt, Office of Management and Budget, Room 10235, New Executive Office Building, Washington, DC 20503, (202) 395-7316.

Lois K. Holland,
Treasury PRA Clearance Officer.

[FR Doc. 05-9889 Filed 5-17-05; 8:45 am]

BILLING CODE 4810-35-P